DEPARTMENT OF LABOR

Occupational Safety and Health Administration

Maritime Advisory Committee for Occupational Safety and Health (MACOSH)

AGENCY: Occupational Safety and Health Administration (OSHA), Labor.

ACTION: MACOSH meeting; notice of.

SUMMARY: The Maritime Advisory Committee for Occupational Safety and Health (MACOSH) was established under Section 7 of the Occupational Safety and Health (OSH) Act of 1970 to advise the Assistant Secretary of Labor for Occupational Safety and Health on issues relating to occupational safety and health in the maritime industries. The purpose of this Federal Register notice is to announce the Committee and workgroup meetings scheduled for January 19-20, 2010.

DATES: The Shipyard and Longshore workgroups will meet on Tuesday, January 19, 2010, 9 a.m. to 5 p.m., and the Committee will meet on Wednesday, January 20, 2010, from 9 a.m. to 5 p.m.

ADDRESSES: The Committee and workgroups will meet at the U.S. Department of Labor, 200 Constitution Avenue, NW., Washington, DC 20210. On Tuesday, January 19, 2010, the Longshore workgroup will meet in C-5515-1A and the Shipyard workgroup will meet in conference room C-5521-4. On Wednesday, January 20, 2010, the Committee will meet in conference room C-5521-4. Mail comments, views, or statements in response to this notice to Danielle Watson, Office of Maritime, OSHA, U.S. Department of Labor, Room N-3609, 200 Constitution Avenue, NW., Washington, DC 20210; phone (202) 693-1870; fax (202) 693-1663.

FOR FURTHER INFORMATION CONTACT: For general information about MACOSH and this meeting, contact: Joseph V. Daddura, Director, Office of Maritime, OSHA, U.S. Department of Labor, Room N-3609, 200 Constitution Avenue, NW., Washington, DC 20210; phone: (202) 693-2067. Individuals with disabilities wishing to attend the meeting should contact Danielle Watson at (202) 693-1870 no later than January 5, 2010, to obtain appropriate accommodations.

SUPPLEMENTARY INFORMATION: All MACOSH meetings are open to the public. All interested persons are invited to attend the MACOSH meeting at the time and location listed above. The MACOSH agenda will include: An OSHA activities update; a review of the minutes from the previous meeting; and reports from each workgroup. The Shipyard workgroup will discuss the following topics: Safety and Health Injury Prevention Sheets (SHIPS) rigging guidance document; arc flash guidance; activities related to shipyard employment; commercial fishing industry quick cards; injury and fatality data initiative; and scaffolding and falls (29 CFR 1915 subpart E). The Longshore workgroup discussion will cover welding guidance; safety zone guidance; speed limits in marine terminals; and container repair safety guidance.

Public Participation: Written data, views, or comments for consideration by MACOSH on the various agenda items listed above should be submitted to Danielle Watson at the address listed above. Submissions received by January 5, 2010, will be provided to Committee members and will be included in the record of the meeting. Requests to make oral presentations to the Committee may be granted as time permits.

Authority: This notice was prepared under the direction of Jordan Barab, Acting Assistant Secretary of Labor for Occupational Safety and Health, U.S. Department of Labor, 200 Constitution Avenue, NW., Washington, DC 20210, pursuant to Sections 6(b)(1) and 7(b) of the Occupational Safety and Health Act of 1970 (29 U.S.C. 655(b)(1), 656(b)), the Federal Advisory Committee Act (5 U.S.C. App. 2), Secretary of Labor's Order 5-2007 (72 FR 31160), and 29 CFR part 1912.

Signed at Washington, DC, this 4th day of December 2009.
Jordan Barab,
Acting Assistant Secretary of Labor for Occupational Safety and Health.

[FR Doc. E9-29418 Filed 12-9-09; 8:45 am]

BILLING CODE 4510-26-P